DEPARTMENT OF THE INTERIOR

Bureau of Indian Affairs

[245A2100DD/AAKC001030/A0A501010.999900]

Land Acquisitions; Redding Rancheria, California, Strawberry Fields Site, Shasta County, California

AGENCY: Bureau of Indian Affairs, Interior.

ACTION: Notice.

SUMMARY: The Assistant Secretary—Indian Affairs made a final agency determination to acquire 226.226 acres, more or less, of land in trust for the Redding Rancheria, California, (Tribe) for gaming and other purposes.

DATES: This final determination was made on July 1, 2024.

FOR FURTHER INFORMATION CONTACT: Ms. Paula L. Hart, Director, Office of Indian Gaming, Bureau of Indian Affairs, Mail Stop 3543, 1849 C Street NW, Washington, DC 20240, paula.hart@bia.gov, (202) 219-4066.

SUPPLEMENTARY INFORMATION: On the date listed in the DATES section of this notice, the Assistant Secretary—Indian Affairs made a final agency determination to acquire the site, consisting of 226.226 acres, more or less, in trust for the Tribe, under the authority of the Indian Reorganization Act of June 18, 1934, 25 U.S.C. 5108.

The Assistant Secretary—Indian Affairs, on behalf of the Secretary of the Interior, will immediately acquire title to the site in the name of the United States of America in Trust for the Tribe upon fulfillment of Departmental requirements. The 226.226 acres, more or less, are described as follows:

Legal Land Description of Property

[GRANT DEED RECORDED MARCH 31, 2004, DOCUMENT NO. 2004-0017674]

All that certain real property situate in the unincorporated area, county of Shasta, State of California, described as follows:

Parcel 1

• All that portion of the northeast one-quarter and the north one-half of the north one-half of the north one-half of the southeast one-quarter of section 19, township 31 north, range 4 west, M.D.B. & M., according to the official plat thereof lying easterly of the Sacramento River.

Parcel 2

• All that portion of the following described parcel lying westerly of interstate route #5, as described in the final order of condemnation recorded in the office of the county recorder, December 18, 1963, in book 769 of official records at page 108, Shasta County records.

• Beginning at the section corner common to sections 17, 18, 19 and 20, township 31 north, range 4 west, M.D.B. & M.; thence south 89°41′44″ east on and along the section line common to said sections 17 and 20, a distance of 2640.35 feet to the one-quarter section corner common to said sections 17 and 20; thence south 0°30′26″ east 3002.71 feet to a ¾″ galvanized iron pin marked r. C. E. 8700, set in a fence corner; thence north 89°34′03″ west along existing fence to the intersection with the west line of the northwest one-quarter of said section 20; thence northerly along said west line to the point of beginning of this description.

• APN NO'S: 055-010-011, 055-010-012, 055-010-014, 055-010-015 & 055-020-001

[GRANT DEED RECORDED APRIL 2, 2010, DOCUMENT NO. 2010-0009576]

The land described herein is situated in the State of California, county of Shasta, unicorporated area, and is described as follows:

Parcel 1

• A portion of the southwest quarter of section 20 and a portion of the southeast quarter of fractional section 19, township 31 north, range 4 west of Mount Diablo Base and Meridian, Shasta County, California. Commencing at a buried rock with a chiseled cross at the center of section 20, township 31 north, range 4 west, M.D.M., as shown on that map recorded in book 27 of land surveys, at page 15, Shasta County records; thence, along the east line of the southwest quarter of said section 20, S 0 degrees 13′10″ E, 332.19 feet to a point marked by an iron pin stamped LS 2656; thence, leaving said east line parallel with the north line of the southwest quarter of said section 20, N 89 degrees 43′40″ W, 1239.16 feet to a point on the westerly right of way line of proposed state highway US 99 freeway, said point being marked by an iron pin with 3″ brass cap stamped RCE 5438, the true point of beginning of this parcel; thence, from said point of beginning, continuing N 89 degrees 43′40″ W, 1409.65 feet to a point on the west line of said section 20, from whence an iron pin stamped RCE 8700 bears S 4 degrees E, 5.11 feet; thence, continuing N 89 degrees 43′40″ W, 1809.51 feet to an iron pin witness corner with a 3″ brass cap, stamped RCE 5438; thence, continuing N 89 degrees 43′40″ W, 265 feet more or less to a point on the waters edge at the left bank of the Sacramento River as it was December 5, 1962; thence, following the left bank of the Sacramento River, southeasterly to a point on the centerline of that certain 60 foot wide parcel recorded in book 470 at page 490, official records of Shasta County, said point bears S 0 degrees 13′10″ E, 1336.90 feet and N 89 degrees 47′12″ W, 4533 feet more or less from the center of said section 20; thence, along said centerline S 89 degrees 47′12″ E, 304 feet, more or less, to a point which bears N 11 degrees 01′40″ W, 30.59 feet from an iron pin stamped LS 2656; thence, continuing along said centerline S 89 degrees 47′12″ E, 3223.52 feet to a point on the westerly right of way line of proposed state highway US 99 freeway which bears N 13 degrees 19′10″ W, 30.86 feet from an iron pin with a 3″ brass cap stamped RCE 5438; thence, along said westerly right of way line N 13 degrees 19′10″ W, 1,003.89 feet to the point of beginning.

• Excepting therefrom the south 30 feet.

• APN: 055-020-004.

Parcel 2

• Removed (contained an undivided ½ interest).

Parcel 3

• A right of way for road purposes to be used in common with others over the following described property:

• Commencing at the southwest corner of section 20, township 31 north, range 4 west, M.D. B. & M.; thence along the south line of said section 20, S 89 degrees 53′17″ E, 1325.40 feet; thence leaving said section line N 0 degrees 28′17″ W, 20.00 feet to the true point of beginning of this description; thence continuing N 0 degrees 28′17″ W, 1300.00 feet to the south boundary of the AndersonCottonwood irrigation district canal right of way; thence along said south boundary S 89 degrees 53′17″ E, 60.00 feet; thence S 0 degrees 28′17″ E, 1300.00 feet; thence N 89 degrees 53′17″ W, 60.00 feet to the true point of beginning.

• Being a portion of the southwest quarter of section 20, township 31 north, range 4 west, M.D.B.& M.

Authority: This notice is published in the exercise of authority delegated by the Secretary of the Interior to the Assistant Secretary—Indian Affairs by 209 Departmental Manual 8.1 and is published to comply with the requirements of 25 CFR 151.12(c)(2)(ii) that notice of the decision to acquire land in trust be promptly provided in the Federal Register.

Bryan Newland,
Assistant Secretary—Indian Affairs.

[FR Doc. 2024-14781 Filed 7-5-24; 8:45 am]

BILLING CODE 4337-15-P